DEPARTMENT OF HOUSING AND URBAN DEVELOPMENT

[Docket No. FR-5130-N-29]

Privacy Act of 1974; Notification of the Establishment of a New System of Records, Financial Data Mart (FDM, A75R),

AGENCY: Office of the Chief Information Officer, HUD.

ACTION: Notification of the Establish of a New Privacy Act System of Records.

SUMMARY: HUD proposes to establish a new record system to add to its inventory of systems of records subject to the Privacy Act of 1974 (5 U.S.C. 552a), as amended. The purpose of the proposed new system of records, identified as the Financial Data Mart (FDM, A75R) will be used by HUD's Chief Financial Office to store financial, limited personnel, vendor, and customer data.

DATES: Effective Date: This action will be effective without further notice on November 5, 2008 unless comments are received that would result in a contrary determination.

Comments Due Date: November 5, 2008.

ADDRESSES: Interested persons are invited to submit comments regarding this new system of records to the Rules Docket Clerk, Office of General Counsel, Department of Housing and Urban Development, 451 Seventh Street, SW., Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: Donna Robinson-Staton, Departmental Privacy Act Officer, Office of the Chief Information Officer, Department of Housing and Urban Development, 451 Seventh Street, SW., Room 2256, Washington, DC 20410, telephone number (202) 402-8073 or Gail B. Dise, Assistant Chief Financial Office for Systems, Office of the Chief Financial Officer, Department of Housing and Urban Development, 451 Seventh Street, SW., Room 3100, Washington, DC 20410, Telephone Number (202) 708-1757. (These are not toll free numbers.) A telecommunication device for hearing- and speech-impaired individuals (TTY) is available at 1-800-877-8339 (Federal Information Relay Service).

SUPPLEMENTARY INFORMATION: Title 5 U.S.C. 552a(e)(4) and (11) provide that the public be afforded a 30-day period in which to comment on the new record system.

The new system report, as required by 5 U.S.C. 552a(r) of the Privacy Act was submitted to the Committee on Government Affairs of the United States Senate, the Committee on Government Reform and Oversight of the House of Representatives, and the Office of Management and Budget (OMB) pursuant to paragraph 4c of Appendix I to OMB Circular No. A-130, Federal Agency Responsibilities for Maintaining Records about Individuals, dated June 25, 1993 (58 FR 36075, July 2, 1993).

Authority: 5 U.S.C. 552a, 88 Stat. 1896; 42 U.S.C. 3535(d).

Dated: September 23, 2008.
Lisa Schlosser,
Chief Information Officer.

HUD/CFO-06

NAME:

Financial Data Mart (FDM, A75R).

SYSTEM LOCATION:

HUD Headquarters in Washington, DC.

CATEGORIES OF INDIVIDUALS COVERED BY THE SYSTEM:

HUD employees.

CATEGORIES OF RECORDS IN THE SYSTEM:

Financial data, limited personnel data, vendor data, and customer data.

AUTHORITY FOR MAINTENANCE OF THE SYSTEM:

Sec. 113 of the Budget and Accounting Act of 1950 31 U.S.C. 66a. (Pub. L. 81-784).

PURPOSE(s):

To provide the Department decision makers with an online, web enabled data warehouse. FDM is the primary reporting tool used to generate internal ad-hoc reports, scheduled event driven reports, and queries. This system supports program area managers, budget officers, and management staff by providing centralized, uniformed financial information, event driven reports, and an ad-hoc financial analysis tool. FDM supports essential functions of the Office of Housing (OH), Office of Public and Indian Housing (PIH), Office of Community Planning and Development (CPD), Policy Development and Research (PDR), and other HUD support offices. There is no public access to this system. This system is for internal use only.

ROUTINE USES OF RECORDS MAINTAINED IN THE SYSTEM:

Including categories of users and the purposes of such uses: In addition to those disclosures generally permitted under 5 U.S.C. 552a(b) of the Privacy Act, other routine uses are as follows: The system is used as a data warehouse. It contains personal data about individuals including names, addresses, and social security numbers. It is used by the Department for analysis, management reports, and interagency reporting. There are over 400 users with customized report capability.

POLICIES AND PRACTICES FOR STORING, RETRIEVING, ACCESSING, RETAINING, AND DISPOSING OF RECORDS IN THE SYSTEM:

STORAGE:

Hard copy documents are stored in the secure cabinets; electronic files are stored on servers

RETRIEVABLILITY:

By social security number; name; address; user-id; deposit account number; routing number.

SAFEGUARDS EMPLOYED INCLUDE:

Background screening, limited authorizations and access, security guards; computer records are maintained in secure areas with access limited to authorized personnel and technical restraints employed with regard to accessing the records; access to automated systems by authorized users by passwords.

RETENTION AND DISPOSAL PROCEDURES:

Are in accordance with GSA schedules of retention and disposal. HUD Handbook 2225.6 Records Disposition Schedule Appendix 14, HUD Handbook 2228.1 Records Disposition Schedule Management Chapter 9, and HUD Handbook 2228.2 General Records.

SYSTEM MANAGER(s) AND ADDRESS:

Gail B. Dise, Assistant Chief Financial Office for Systems, Office of the Chief Financial Officer, Department of Housing and Urban Development, 451 Seventh Street, SW., Room 3100, Washington, DC 20410, Telephone Number (202) 708-1757.

NOTIFICATION PROCEDURES:

For information assistance, or inquiry about existence of records, contact the Privacy Act Officer at the appropriate 451 Seventh Street, SW., Room 4178, Washington, DC, in accordance with the procedures in 24 CFR part 16.

RECORD ACCESS PROCEDURES:

The Department's rules for providing access to records to the individual concerned appear in 24 CFR part 16. If additional information or assistance is required, contact the Privacy Act Officer at the Department of Housing and Urban Development (HUD), 451 Seventh Street, SW., Room 4178, Washington, DC 20410.

CONTESTING RECORD PROCEDURES:

The procedures for requesting amendment or correction of records appears in 24 CFR part 16. If additional information is needed, contact (i) in relation to contesting contents of records, the Privacy Act Officer at HUD, 451 Seventh Street, SW., room 4178, Washington, DC 20410; and (ii) in relation to appeals of initial denials, HUD, Departmental Privacy Appeals Officer, Office of General Counsel, 451 Seventh Street, SW., Washington, DC 20410.

RECORD SOURCE CATEGORIES:

Subject individuals; other individuals; financial institutions, private corporations or firms doing business with HUD; Federal agencies; HUD personnel.

EXEMPTIONS FROM CERTAIN PROVISIONS OF THE ACT:

None.

[FR Doc. E8-23470 Filed 10-3-08; 8:45 am]

BILLING CODE 4210-67-P